DEPARTMENT OF ENERGY

Federal Energy Regulatory Commission

[Project No. 4349-033]

EONY Generation Limited; Notice Soliciting Scoping Comments

Take notice that the following hydroelectric application has been filed with the Commission and is available for public inspection.

a. Type of Application: New Major License.

b. Project No.: 4349-033.

c. Date Filed: April 26, 2024.

d. Applicant: EONY Generation Limited.

e. Name of Project: Moose River Hydroelectric Project (project).

f. Location: On the Moose River in Lewis County, New York.

g. Filed Pursuant to: Federal Power Act, 16 U.S.C. 791(a)-825(r).

h. Applicant Contact: Rodney Foster, Manager, Maintenance and Asset Management, EONY Generation Limited, 2711 Hunt Club Road, P.O. Box 8700, Ottawa, Ontario, Canada K1G 3S4; telephone at (613) 225-0418, extension 7056; email at rodfoster@energyottawa.com.

i. FERC Contact: Kelly Wolcott, Project Coordinator, Great Lakes Branch, Division of Hydropower Licensing; telephone at (202) 502-6480; email at kelly.wolcott@ferc.gov.

j. Deadline for Filing Scoping Comments: November 29, 2024.

The Commission strongly encourages electronic filing. Please file scoping comments using the Commission's eFiling system at https://ferconline.ferc.gov/FERCOnline.aspx. Commenters can submit brief comments up to 6,000 characters, without prior registration, using the eComment system at https://ferconline.ferc.gov/QuickComment.aspx. You must include your name at the end of your comments. For assistance, please contact FERC Online Support at FERCOnlineSupport@ferc.gov, (866) 208-3676 (toll free), or (202) 502-8659 (TTY). In lieu of electronic filing, you may submit a paper copy. Submissions sent via the U.S. Postal Service must be addressed to: Debbie Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. All filings must clearly identify the project name and docket number on the first page: Moose River Hydroelectric Project (P-4349-033).

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. The application is not ready for environmental analysis at this time.

l. Project Description: The Moose River Project includes a dam that consists of: (1) a southern section that includes a 39-foot-long intake structure with a 3-foot-long debris sluice gate and a 15-foot-long sluice gate equipped with a trashrack with 2-inch clear bar spacing; and a 10-foot-long stoplog gate; and (2) a northern section that includes a 240-foot-long spillway with a crest elevation of 1,024.6 feet National Geodetic Vertical Datum of 1929 (NGVD 29) and a 58-foot-long, 0.5-foot-high notch.

The dam creates an impoundment that has a surface area of 21 acres at 1,024.6 feet NGVD 29. From the impoundment, water flows through the intake structure to an approximately 5,000-foot-long tunnel with a surge chamber and a 93-foot-long steel penstock. The penstock conveys water to a powerhouse that contains a 12.6-megawatt Kaplan turbine-generator. Water is discharged from the turbine to an approximately 82.5-foot-long tailrace. From the impoundment, water also flows through the debris sluice gate and stoplog gate to a 170-foot-long excavated rock channel that discharges into the Moose River. The project creates an approximately 6,200-foot-long bypassed reach of the Moose River.

Electricity generated at the project is transmitted to the electric grid via a 13.8-kilovolt (kV) underground generator lead line and a switchyard approximately 400 feet east of the powerhouse that includes a 13.8/115-kV step-up transformer.

The minimum and maximum hydraulic capacities of the powerhouse are 200 and 1,300 cfs, respectively. The average annual energy production of the project from 2016 through 2022, was 51,350 megawatt-hours.

Project recreation facilities include: (1) the Agers Falls Recreation Area on the south bank of the bypassed reach; (2) the Moose River Trail; (3) a boat portage trail around the north side of the dam; and (4) a hand-carry boat launch on the south shoreline of the impoundment.

The current license requires EONY to operate the project in a run-of-river mode, such that project outflow approximates the inflow to the impoundment. EONY maintains the normal maximum surface elevation of the impoundment at the spillway crest elevation of 1,024.6 feet NGVD 29 during non-winter months. During winter months, EONY maintains the surface elevation of the impoundment at 1,024.1 feet NGVD 29, which corresponds to the crest elevation of the notch in the spillway, to manage ice.

The current license also requires EONY to release a year-round minimum flow of 60 cfs or inflow, whichever is less, to the bypassed reach. EONY is required to provide annual whitewater flow releases downstream of the dam on ten scheduled days and ten unscheduled days, from 12:00 to 7:00 p.m., or one-half hour prior to sunset, whichever is earlier. The current license requires the licensee to implement the cultural resource management plan for the protection of historic properties.

In its application for a new major license, EONY proposes to decrease the amount of land and water enclosed by the project boundary from 184.3 to 168.4 acres. EONY proposes to continue operating the project in a run-of-river mode and maintaining the same impoundment elevations as under the current license. EONY proposes to: (1) release a year-round minimum flow of 80 cfs or inflow, whichever is less, to the bypassed reach; (2) implement an Impoundment Drawdown and Cofferdam Plan, an Invasive Species Management Plan, and a Bat and Eagle Protection Plan, all filed in Appendix C of the license application; (3) continue to maintain the project recreation facilities, and the interpretive display and trail through the historic Agers Mill Complex; (4) install directional signage at a non-project hand-carry boat take-out site along the Moose River Trail; (5) continue to provide up to 20 whitewater flow releases per year; (6) continue generator ramping during whitewater release days as outlined in the current license; (7) consult with the New York State Historic Preservation Officer (New York SHPO) on the need for any surveys or protection measures prior to implementing any land-disturbing activities in the project boundary; and (8) to protect previously unidentified cultural resources that are discovered during any construction, stop construction and consult with the New York SHPO to determine the need for any surveys or protection measures.

m. A copy of the application can be viewed on the Commission's website at https://www.ferc.gov using the “eLibrary” link. Enter the project's docket number excluding the last three digits in the docket number field to access the document (P-4349). For assistance, contact FERC Online Support.

You may also register at https://ferconline.ferc.gov/FERCOnline.aspx to be notified via email of new filings and issuances related to this or other pending projects. For assistance, please contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

n. Scoping Process: Pursuant to the National Environmental Policy Act (NEPA), Commission staff will prepare either an environmental assessment (EA) or an environmental impact statement (EIS) (collectively referred to as the “NEPA document”) that describes and evaluates the probable effects, including an assessment of the site-specific and cumulative effects, if any, of the proposed action and alternatives. The Commission's scoping process will help determine the required level of analysis and satisfy the NEPA scoping requirements, irrespective of whether the Commission issues an EA or an EIS.

At this time, we do not anticipate holding on-site scoping meetings. Instead, we are soliciting written comments and suggestions on the preliminary list of issues and alternatives to be addressed in the NEPA document, as described in scoping document 1 (SD1), issued October 29, 2024.

Copies of the SD1 outlining the proposed project and subject areas to be addressed in the NEPA document were distributed to the parties on the Commission's mailing list and the applicant's distribution list. Copies of SD1 may be viewed on the web at http://www.ferc.gov using the “eLibrary” link (see item m above).

Dated: October 29, 2024.
Debbie-Anne A. Reese,
Secretary.

[FR Doc. 2024-25631 Filed 11-4-24; 8:45 am]

BILLING CODE 6717-01-P